ENVIRONMENTAL PROTECTION AGENCY

[OPP-2004-0129; FRL-7367-5]

Diazinon; Product Registrations Cancellation Order

AGENCY: Environmental Protection Agency (EPA).

ACTION: Notice.

SUMMARY: This notice announces EPA's cancellation order for the cancellations, as requested by registrants, of all outdoor non-agricultural end-use products containing diazinon [O,O-Diethyl O-(2-isopropyl-6-methyl-4-pyrimidinyl) phosphorothioate] and accepted by EPA, pursuant to section 6(f) of the Federal Insecticide, Fungicide, and Rodenticide Act (FIFRA). This order follows up a December 10, 2003 Notice of Receipt of Requests from diazinon registrants for cancellations of all of their diazinon outdoor non-agricultural end-use product registrations. In the December 10, 2003 Notice, EPA indicated that it would issue an order granting the voluntary product registration cancellations, unless the Agency received substantive comments within the 180 day comment period that would merit its further review of these requests. The Agency did not receive any comments on the Notice. Accordingly, EPA hereby issues in this notice a cancellation order granting the requested cancellations. Any distribution, sale, or use of the products subject to this cancellation order is only permitted in accordance with the terms of the existing stocks provisions of this cancellation order.

DATES: The cancellations are effective immediately.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2004-0129. The official public docket consists of the documents specifically referenced in this action, any public comments received, and other information related to this action. Although a part of the official docket, the public docket does not include Confidential Business Information (CBI) or other information whose disclosure is restricted by statute. EPA also established two dockets containing documents in support of the diazinon IRED. They are dockets OPP-34225 and OPP-2002-0251. The official public docket is the collection of materials that is available for public viewing at the Public Information and Records Integrity Branch (PIRIB), Rm. 119, Crystal Mall #2, 1801 S. St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces cancellation, as requested by registrants, of all outdoor non-agricultural end-use diazinon products registered under section 3 of FIFRA. These registrations are listed in sequence by registration number in Table 1 of this unit.

Table 1.—Diazinon Registration Cancellation Requests
Registration No. | Product Name
16-118 | Dragon Granular Lawn Insect Control
16-119 | Dragon 5% Diazinon Granules
16-157 | Dragon 25% Diazinon Spray
16-166 | Dragon Diazinon Water-Based Concentrate
192-161 | Dexol Diazinon 5% Granules
228-162 | Riverdale Lawn Insect Killer Plus Fertilizer
228-177 | Riverdale 5% Diazinon Insect Killer Granules
239-2364 | Ortho Diazinon Insect Spray
239-2375 | Ortho Diazinon Granules
239-2479 | Ortho Diazinon Soil and Turf Insect Control
239-2503 | Ortho Diazinon Granular Fire Ant Killer
239-2619 | Hi-Power Ant, Roach, and Spider Spray Formula II
239-2630 | Ortho Diazinon Insect Spray Ready-to-Use
239-2643 | Ortho Diazinon Insect Spray 2
239-2671 | Ortho Diazinon Dust
538-92 | Lawn Insect Control Plus Fertilizer
538-187 | Scotts Lawn Insect Control
538-204 | Western Lawn Insect Control Plus Fertilizer
538-254 | Fertilizer Plus Diazinon
538-258 | Fertilizer and Diazinon
572-292 | 5% Diazinon Granular Lawn Insecticide
572-305 | Rockland Diazinon Spray
655-556 | Prentox Diazinon 5G
829-249 | Diazinon Insecticide 25% Spray Concentrate
829-264 | SA-50 Brand 5% Diazinon Granules
869-139 | Green Light Diazinon 5 Granules
869-231 | Green Light Diazinon
961-358 | Lebanon Lawn and Garden Insecticide with Diazinon 5G
961-393 (old reg. no. 8660-11) | Sta-Green Lawn Insect Control and Fertilizer
1386-648 | 5% Diazinon Insect Killer Granules
3546-27 | Shoofly Hornet Jet-bomb
7401-216 | Ferti-lome Diazinon Insect Spray
7401-222 | Ferti-lome Special Diazinon Insect Killer Granules
7401-441 | Ferti-lome Diazinon Water Base Concentrate
8378-12 | Lawn Insect Control Plus Fertilizer
8378-32 | Shaw's 5% Diazinon Insect Granules
8780-51 | Turf Line Diazinon 5G Lawn Insect Control
8780-54 (listed in 12/10/03 notice as 56819-13) | Turf Diazinon Lawn Insect Control Plus Fertilizer #2
8780-55 (listed in 12/10/03 notice as 56819-14) | Turf Diazinon Lawn Insect Control Plus Fertilizer
8780-56 | Turf Line Arthroban Triple Action #4
8845-92 | Spectracide Lawn and Garden Insect Control
8845-95 | Spectracide 6000 Lawn and Garden Insect Control
8845-101 | Spectracide Fire Ant Killer
9198-45 | The Andersons Turf Food with 3.33% Diazinon
9198-62 | The Andersons Lawn and Garden Insecticide 5% Diazinon
9688-89 | Chemsico Diazinon 2G
10404-14 | Lesco Diazinon 3.33% + Fertilizer
10404-23 | Lesco Diazinon 5G
19713-263 | Drexel Diazinon 5G
19713-264 | Drexel Diazinon 2G
19713-317 | Bug Spray
28293-199 | Unicorn Diazinon 5G Granules
28293-230 | Unicorn 25 EC Diazinon
32802-5 | All Season Diazinon 5G Insecticide
33955-556 | Acme Diazinon 25% Emulsifiable Concentrate
33995-557 | Acme Diazinon 5G Lawn and Garden Insect Control
34704-57 | Clean Crop Diazinon 5 Lawn & Garden
34911-13 | Hi-Yield 5% Diazinon Insect Killer Granules
34911-23 | Hi-Yield Imported Fire Ant Control Granules
40849-30 | Enforcer Ant Kill Granules II
42057-90 | Diazinon Liquid (Diazinon 25% Emulsifiable)
42057-107 | Morgro 5% Diazinon Granular Lawn and Garden Insect Control
47000-120 | Diazinon Lawn and Garden WBC
51036-69 | Diazinon 2G Lawn and Perimeter Granules
51036-97 | Diazinon 5G Homeowner
53883-45 | Martins Diazinon 25 E Lawn and Garden Insect Control
53883-46 | Martin's Diazinon Granular Lawn Insect Control
53883-51 | Martin's 5% Diazinon Granules
53883-54 | Martin's Fire Ant Killer
53883-80 (old reg. no. 37915-6) | Professional Pest Control Formula DC-500
59144-2 | 5% Diazinon Granules
59144-28 | Diazinon Lawn and Garden Insecticide
62366-2 | Bug Stuff
67572-1 | CP Diazinon Lawn and Garden WB Ready-to-Use
75082-2 (old reg. no. 34822-6) | Di-All Paint Insecticide

Table 2 of this unit includes the names and addresses of record for all registrants of the products in Table 1 of this unit, in sequence by EPA company number:

Table 2.— Registrants Requesting Voluntary Cancellation
EPA Company No. | Company Name and Address
16 | Dragon Chemical Corporation, 7033 Walrond Drive, NW., P.O. Box 7311, Roanoke, VA 24019
192 | Value Gardens Supply, LLC, P.O. Box 585, St. Joseph, MO 64502
228 | Nufarm Americas Inc., 1333 Burr Ridge Parkway, Suite 125A, Bur Ridge, IL 60527
239 | The Ortho Business Group, P.O. Box 190, Marysville, OH 43040
538 | The Scotts Company, 14111 Scottslawn Road, Marysville, OH 43041
572 | Rockland Corporation, 686 Passaic Avenue, P.O. Box 809, West Caldwell, NJ 07007
655 | Prentiss Inc., CB 2000, Floral Park, NY 11001
829 | Southern Agricultural Insecticides, Inc., P.O. Box 218, Palmetto, FL 34220
869 | Green Light Company, P.O. Box 17985, San Antonio, TX 78217
961 | Lebanon Seaboard Corporation, 1600 East Cumberland Street, Lebanon, PA 17042
1386 | Universal Cooperatives Inc., 1300 Corporate Center Curve, Eagan, MN 55121
3546 | Lynwood Labs Inc., 945 Great Plain Avenue, Needham, MA 02192
7401 | Voluntary Purchasing Group Inc., 1806 Auburn Drive, Carrollton, TX 75007
8378 | Knox Fertilizer Company Inc., West Culver Road, P.O. Box 248, Knox, IN 46534
8780 | Progressive Lawn Research, Inc., 1225 Lehigh Station Road, P.O. Box 400, Henrietta, NY 14467
8845 | Spectrum Group, P.O. Box 142642, St. Louis, MO 63114
9198 | The Andersons Lawn Fertilizer Division, Inc. P.O. Box 119,Maumee, OH 43537
9688 | Chemsico, P.O. Box 142642, St. Louis, MO 63114
10404 | Lesco Inc., 15885 Sprague Road, Strongsville, OH 44136
19713 | Drexel Chemical Company, 1700 Channel Avenue, P.O. Box 13327, Memphis, TN 38113
28293 | Unicorn Laboratories, 12385 Automobile Boulevard, Clearwater, FL 33762
32802 | Howard Johnson's Enterprises Inc., 700 West Virginia Street, Suite 222, Milwaukee, WI 53204
33955 | PBI/Gordon Corporation, P.O. Box 014090, Kansas City, MO 64101
34704 | Platte Chemical Company, Inc., P.O. Box 667, Greeley, CO 80632
34911 | Hi-Yield Chemical Company, 1806 Auburn Drive, Carrollton, TX 75007
40849 | Enforcer Products, 1310 Seaboard Industrial Boulevard NW, Atlanta, GA 30318
42057 | Morgro Chemical Company, 145 West Central Avenue, Salt Lake City, UT 84107
47000 | Chem-Tech Ltd., 1479 West Pond Road, Egan, MN 55122
51036 | Micro-Flo Company, LLC., P.O. Box 772099, Memphis, TN 38117
53883 | Control Solutions, Inc., 5903 Genoa-Red Bluff, Pasadena, TX 77507
59144 | Gro Tec Inc., 30856 Rocky Road, Greeley, CO 80631
62366 | The Valspar Corporation, 30856 Rocky Road, Greeley, CO 80631
67572 | Contract Packaging Inc., 10115 Highway 142, North Covington, GA 30014
75082 | Supreme Chemicals of Georgia, Inc., 1535 Oak Industrial Lane, Suite B, Cummings, GA 30041

III. Cancellation Order

Pursuant to section 6(f) of FIFRA, EPA hereby approves the requested cancellations of diazinon product registrations identified in Table 1 in Unit II. Accordingly, the Agency orders that the diazinon products identified in Table 1 in Unit II are hereby canceled. Any distribution, sale, or use of existing stocks of the products identified in Table 1 in Unit II in a manner inconsistent with any of the Provisions for Disposition of Existing Stocks set forth below in Unit V will be considered a violation of FIFRA.

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Provisions for Disposition of Existing Stocks

Existing stocks are those stocks of registered pesticide products which are currently in the United States and which have been packaged, labeled, and released for shipment prior to the effective date of the cancellation action. The cancellation order issued in this Notice includes the following existing stocks provisions:

1. Sale and distribution of these outdoor non-agricultural end-use products containing diazinon will not be permitted after December 31, 2004, except for purposes of product recovery pursuant to the December 5, 2000, Memorandum of Agreement between EPA and diazinon registrants, shipping such stocks for export consistent with the requirements of FIFRA section 17, or proper disposal in accordance with applicable law.

2. Use of existing stocks may continue until stocks are exhausted. Any such use must be in accordance with the label.

List of Subjects

Environmental protection, Pesticides and pests.

Dated: July 26, 2004.
Debra Edwards,
Director, Special Review and Reregistration Division, Office of Pesticide Programs.

[FR Doc. 04-18384 Filed 8-10-04; 8:45 am]

BILLING CODE 6560-50-S